DEPARTMENT OF TRANSPORTATION

Federal Motor Carrier Safety Administration

[Docket No. FMCSA-2005-20105]

Public Meeting To Discuss the Establishment of a National Registry of Certified Medical Examiners

AGENCY: Federal Motor Carrier Safety Administration (FMCSA), DOT.

ACTION: Notice of public meeting.

SUMMARY: FMCSA announces a public meeting concerning a National Registry of Certified Medical Examiners (NRCME). If established, the NRCME would be a database of medical examiners certified by FMCSA (or a third party) to conduct medical examinations of interstate commercial motor vehicle (CMV) drivers and effectively determine their physical qualifications to operate such vehicles in interstate commerce as defined in 49 CFR 391.41. If the NRCME is implemented, the FMCSA would only accept medical examinations conducted by persons listed in the NRCME as proof of the physical qualifications standards for interstate CMV drivers. The meeting is intended to provide a general introduction to the NRCME concept and an opportunity for discussion with subject matter experts.

DATES: The meeting will be held on June 22, 2005. The meeting will begin at 9 a.m. and end at 1:15 p.m.

ADDRESSES: The meeting will be held at the Crystal City Marriott, 1999 Jefferson Davis Highway, Arlington, VA 22202.

FOR FURTHER INFORMATION CONTACT: For information, contact Dr. Mary D. Gunnels, Office of Bus and Truck Standards and Operations, Physical Qualifications Division, 202-366-4001.

Information on Services for Individuals With Disabilities

For information on facilities or services for individuals with disabilities or to request special assistance at the meeting, contact Ms. Margo Weeks, Axiom Resource Management, Inc., 703-379-0412, ext 456.

SUPPLEMENTARY INFORMATION:

Background

Interest in certifying medical examiners to evaluate interstate commercial motor vehicle operators dates back to 1978, when the National Highway Traffic Safety Administration commissioned a feasibility study on the issue. This study addressed the primary weakness in the overall system—the lack of medical examiner understanding of the relationship of driver physical condition to the task of operating CMVs interstate. The study found that there were not enough doctors to support a certified medical examiner system. Instead, it recommended certifying a few medical examiners who would determine fitness when there was a conflict between a driver's physician and the motor carrier's physician.

In 1992, the Federal Motor Carrier Safety Regulations were amended to allow physicians' assistants, advanced nurse practitioners, and doctors of chiropractic to perform medical examinations of CMV operators, if permitted by state license (57 FR 33278; July 28, 1992). The number of potential medical examiners grew.

The idea of certification resurfaced during the National Transportation Safety Board's (NTSB) January 21, 2000 public hearing in New Orleans concerning a 1999 crash where it was determined that the CMV operator had several life-threatening medical conditions. The NTSB concluded that medical examiners might not have the knowledge and information necessary to make appropriate decisions about driver fitness. In its “Highway Accident Report, Motorcoach Run-Off-The-Road Accident, New Orleans, Louisiana, May 9, 1999” (NTSB/HAR-01/01, PB 2001—916201, Notation 7381, August 28, 2001), the NTSB recommended (H-01-017 through H-01-024) that the FMCSA “Develop a comprehensive medical oversight program for interstate commercial drivers* * *” that includes requirements to ensure “Individuals performing medical examinations for drivers are qualified to do so and are educated about occupational issues for drivers.”

Most recently, the 107th Congress considered the issue of a National Registry in the Senate version of the Safe, Accountable, Flexible, and Efficient Transportation Equity Act of 2003 (S. 1072, Sec. 4228). The legislation included language regarding the physical examinations required of CMV operators by medical examiners who are proficient in physical and medical examination standards and listed on a national registry maintained by the U.S. Department of Transportation.

Development and Implementation of the NRCME

Although Congress has not yet enacted legislation to require FMCSA to establish a registry of certified medical examiners, the Agency seeks to provide a general introduction to the NRCME concept and to initiate dialogue on the topic with subject matter experts. Through this dialogue, we also anticipate developing information that would allow us to exercise our current statutory authority under 49 U.S.C. 31316 (the Motor Carrier Safety Act of 1984) and 49 U.S.C. 31502 (the Motor Carrier Act of 1935) to better ensure the physical qualifications of interstate CMV drivers.

The NRCME would be used to identify medical examiners who have demonstrated to FMCSA that they have knowledge of the driver physical qualifications standards and all applicable advisory guidelines for use in determining whether an individual is qualified to operate CMVs in interstate commerce. Medical examiners listed in the NRCME would be trained and certified by FMCSA (or a third party) as being knowledgeable about the Federal driver physical qualifications standards. Medical examiners are not currently required to have specific training or demonstrate any special or unique understanding of motor carrier operations to medically certify CMV drivers.

The delivery of program services and the ongoing operation of the National Registry would require the participation of private sector organizations that have relevant existing experience. These organizations would include medical associations and societies that provide education and training, as well as organizations that develop, administer and analyze certification examinations. Quality management/quality control (certification, accreditation) for the program would be conducted using accepted existing practices in the private sector.

Meeting Participation

All interested parties are encouraged to attend, including medical examiners, representatives of medical associations, certification and accreditation organizations, motor carriers and drivers, state motor carrier enforcement agencies, safety advocates and organizations. View the following Web site for more information: http://www.nrcme.fmcsa.dot.gov.

Issued on: May 12, 2005.
Annette M. Sandberg,
Administrator.

[FR Doc. 05-9897 Filed 5-17-05; 8:45 am]

BILLING CODE 4910-EX-P